DEPARTMENT OF DEFENSE

Department of the Navy

Notice of Intent To Grant Exclusive Patent License; NanoDynamics, Inc.

AGENCY: Department of the Navy, DoD.

ACTION: Notice.

SUMMARY: The Department of the Navy hereby gives notice of its intent to grant to NanoDynamics, Inc., a revocable, nonassignable, exclusive license to practice in the field of use of Building Materials which shall mean the use of Halloysite Microtubles for the elution of any and all substances from them as a biocide in grouts, cements, parging materials, stuccos, and mortars; and wallboards, and cellulose-based materials such as wallboard papers, wallpapers, particleboard, paneling, medium density fiberboard (MDF) paneling, plywood, chipboard, and ceiling tile; and caulks, sealants and adhesives; and high pressure laminates, including wall, counter top and floor coverings or components thereof; and ceramics, cultured marbles, and tiles; and non-cellulose (i.e. polymer) based wallpapers, paneling, and other wall, counter top, and floor coverings or components; and insulations.

It also includes the field of use of Paint (as a coating for the elution of biocides on lumber) which shall mean the use of a licensed invention for the elution of any and all substances as a biocide in any and all coatings applied in liquid form for the protection of lumber in structures or components thereof in the United States and certain foreign countries, the Government-owned inventions described in U.S. Patent No. 5,492,696: Controlled Release Microstructures, Navy Case No. 76,896.//U.S. Patent No. 5,651,976: Controlled Release of Active Agents Using Inorganic Tubules, Navy Case No. 76,652.//U.S. Patent No. 6,280,759: Method of Controlled Release and Controlled Release Microstructures, Navy Case No. 78,215 and any continuations, divisionals or re-issues thereof.

DATES: Anyone wishing to object to the grant of this license must file written objections along with supporting evidence, if any, not later than September 11, 2008.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone: 202-767-3083. Due to U.S. Postal delays, please fax: 202-404-7920, e-mail: techtran@utopia.nrl.navy.mil or use courier delivery to expedite response.

Authority: 35 U.S.C. 207, 37 CFR Part 404.

Dated: August 20, 2008.
M.C.L. Horrigan,
Commander, Office of the Judge Advocate General, U.S. Navy, Alternate Federal Register Liaison Officer.

[FR Doc. E8-19852 Filed 8-26-08; 8:45 am]

BILLING CODE 3810-FF-P